DEPARTMENT OF HOMELAND SECURITY

Transportation Security Administration

Extension Agency Information Collection Activity Under OMB Review: Federal Flight Deck Officer (FFDO) Program

AGENCY: Transportation Security Administration (TSA), DHS.

ACTION: Notice.

SUMMARY: This notice announces that TSA has forwarded the Information Collection Request (ICR) abstracted below to the Office of Management and Budget (OMB) for review and approval of an extension of the currently approved collection under the Paperwork Reduction Act. The ICR describes the nature of the information collection and its expected burden. TSA published a Federal Register notice, with a 60-day comment period soliciting comments, of the following collection of information on August 23, 2005, 70 FR 43902.

DATES: Send your comments by December 22, 2005. A comment to OMB is most effective if OMB receives it within 30 days of publication.

ADDRESSES: Comments may be faxed to the Office of Information and Regulatory Affairs, Office of Management and Budget, Attention: DHS-TSA Desk Officer, at (202) 395-5806.

FOR FURTHER INFORMATION CONTACT: Katrina Wawer, Information Collection Specialist, Office of Transportation Security Policy, TSA-9, Transportation Security Administration, 601 South 12th Street, Arlington, VA 22202-4220.

SUPPLEMENTARY INFORMATION:

Comments Invited

In accordance with the Paperwork Reduction Act of 1995, (44 U.S.C. 3501 et seq.), an agency may not conduct or sponsor, and a person is not required to respond to a collection of information, unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Federal Flight Deck Officer (FFDO) Program.

Type of Request: Extension of a currently approved collection.

OMB Control Number: 1652-0011.

Forms(s): FFDO online application.

Affected Public: Applicants to the FFDO Program and current FFDOs.

Abstract: To further supplement the security measures being implemented by TSA, Congress and the President enacted the Arming Pilots Against Terrorism Act (APATA) as Title XIV of the Homeland Security Act (Pub. L. 107-296, Nov. 25, 2002, 116 Stat. 2300), codified at 49 U.S.C. 44921. APATA required TSA to establish a program to screen, select, train, deputize, equip, and supervise qualified volunteer pilots of passenger aircraft. With the enactment of the Vision 100—Century of Aviation Reauthorization Act (Pub. L. 108-176, Dec. 12, 2003, 117 Stat. 2490, 2561), the program was expanded to include pilots of cargo aircraft, as well as flight engineers and navigators on both passenger and cargo aircraft. These individuals, known as Federal Flight Deck Officers (FFDOs), are authorized to transport and carry a firearm and to use force, including deadly force, to defend the flight deck of an aircraft against acts of criminal violence or air piracy. Information collected as the result of this renewal request would be used to assess the qualifications and suitability of prospective and current FFDOs through an online application, to ensure the readiness of every FFDO, to administer the program, and for security purposes.

Number of Respondents: Up to 13,780 annually.

Estimated Annual Burden Hours: An estimated 13,780 hours annually. The burden estimate stated in the August 23, 2005 notice did not account for the total reporting burden, and thus has been revised here.

Issued in Arlington, Virginia, on November 15, 2005.
Lisa S. Dean,
Privacy Officer.

[FR Doc. 05-23043 Filed 11-21-05; 8:45 am]

BILLING CODE 4910-62-P